NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 15, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-012

1. Applicant: Heather Lynch, Stony Brook University, IACS 163, Stony Brook, NY 11794

Activity for Which Permit is Requested: Harmful Interference, Enter Antarctic Specially Protected Areas. The applicant would survey chinstrap penguin (Pygoscelis antarctica) colonies in the South Shetland Islands including multiple sites on Low Island. The outcomes of the surveys would be useful in determining population abundance and distribution of chinstrap penguins, important consumers of Antarctic krill. Surveys would be completed using direct manual counts (on foot) and by operating small, remotely piloted aircraft systems (RPAS) over colonies. RPAS would be operated by experienced pilots at altitudes of at least 30 meters above wildlife. Although no significant disturbance is expected, both manual counts and RPAS overflights have the potential to disturb chinstrap penguins as well as Adelie penguins (Pygoscelis adeliae), Gentoo penguins (Pygoscelis papua), the Southern giant petrel (Macronectes giganteus), Southern fulmar (Fulmarus glacialoides), Cape petrel (Deption capense), Antarctic blue-eyed shag (Phalacrocorax atriceps), Antarctic brown skua (Catharacta antarctica), South polar skua (Catharacta maccormicki), Kelp gull (Larus dominicanus), and the Antarctic tern (Sterna vittata) based on the location of the surveys. While conducting visitor site surveys and censuses, the applicant would potentially enter a number of Antarctic Specially Protected Areas (ASPAs) in the Antarctic Peninsula region.

Location: King George Island, South Shetland Islands, Robert Island, Livingston Island; Western Antarctic Peninsula; ASPA 112, Coppermine Peninsula, Robert Island, South Shetland Islands; ASPA 125, Fildes Peninsula, King George Island (25 de Mayo); ASPA 126 Byers Peninsula, Livingston Island, South Shetland Islands; ASPA 128, Western shore of Admiralty Bay, King George Island, South Shetland Islands; ASPA 132, Potter Peninsula, King George Island (Isla 25 de Mayo, South Shetland Islands; ASPA 133, Harmony Point, Nelson Island, South Shetland Islands; ASPA 134, Cierva Point and offshore islands, Danco Coast, Antarctic Peninsula; ASPA 139, Biscoe Point, Anvers Island, Palmer Archipelago; ASPA 150, Ardley Island, Maxwell Bay, King George Island (25 de Mayo); ASPA 151, Lions Rump, King George Island, South Shetland Islands; ASPA 171, Narebski Point, Barton Peninsula, King George Island; ASPA 180, Danger Islands; ASPA 182, Western Bransfield Strait and Eastern Dallman Bay.

Dates of Permitted Activities: December 1, 2024-March 1, 2025

Alina Pavao,
Administrative Assistant, Office of Polar Programs.

[FR Doc. 2024-20690 Filed 9-11-24; 8:45 am]

BILLING CODE 7555-01-P